DEPARTMENT OF HEALTH AND HUMAN SERVICES

Centers for Disease Control and Prevention

[30Day-17-0544]

Agency Forms Undergoing Paperwork Reduction Act Review

In accordance with the Paperwork Reduction Act of 1995, the Centers for Disease Control and Prevention (CDC) has submitted the information collection request titled Evaluation of Effectiveness of NIOSH Publications: NIOSH Customer Satisfaction and Impact Survey to the Office of Management and Budget (OMB) for review and approval. CDC previously published a “Proposed Data Collection Submitted for Public Comment and Recommendations” notice on September 19, 2016 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Evaluation of Effectiveness of NIOSH Publications: NIOSH Customer Satisfaction and Impact (CSI) Survey (OMB Control Number 0920-0544, Expiration Date 4/30/2010)—Reinstatement with Changes—National Institute for Occupational Safety and Health (NIOSH), Centers for Disease Control and Prevention (CDC).

Background and Brief Description

As mandated in the Occupational Safety and Health Act of 1970 (Pub. L. 91-596), the mission of the National Institute for Occupational Safety and Health (NIOSH) is to conduct research and investigations on work-related disease and injury and to disseminate information for preventing identified workplace hazards (Sections 20 (a)(1) and (d)). NIOSH is proposing a Reinstatement with Changes to continue a two-year study to collect stakeholder feedback on the effectiveness of its products and their dissemination. This dual responsibility of NIOSH's mission recognizes the need to translate research into workplace application if it is to impact worker safety and well-being. NIOSH, through its communication efforts, seeks to promote greater awareness of occupational hazards and their control, influence public policy and regulatory action, shape national research priorities, change organizational practices and individual behavior, and ultimately, improve American working life. NIOSH's primary communication vehicle is its series of numbered publications catalogued by the Institute as Policy Documents, Technical Documents, and Educational Documents.

The aforementioned types of documents are available to the public through the use of mailing lists, NIOSH eNews, the NIOSH Web site, promotion at conferences, and by other means. In FY 2015, combined digital downloads and hard copy distributions of NIOSH publications registered at over 790,000. Yet, these numbers tell little of whether the reports are reaching all of the appropriate audiences, or whether the information is perceived as credible and useful by the recipients. Therefore, a Customer Satisfaction Survey (CSS) was conducted in 2003 and a follow-up CSS in 2010 to assess customer satisfaction and perceived impact of NIOSH publications. The proposed survey seeks to update the data collected for the 2010 survey (OMB Control Number 0920-0544, expiration date 4/30/10) and gather data on outreach initiatives NIOSH has undertaken in recent years. The findings from the study completed in 2010 confirmed that NIOSH continues to be a credible source of occupational safety and health information, NIOSH publications were being used more frequently than in previous years, and respondents are relying more on the NIOSH Web site and other electronic resources. However, the 2010 CSS also revealed that the percentage of respondents who looked to NIOSH for Occupational Safety and Health information dropped from 84% in 2003 to 76% in 2009 (2010 survey data collection). Results from the 2010 CSS suggest that NIOSH needs to collaborate more with stakeholder associations to assess the needs of those in the OSH community who are not using NIOSH resources. Since then, NIOSH has established a partner database, which documents the private companies, professional associations, and labor unions listed as partners on various projects. Another recommendation is that NIOSH develop strategies to increase awareness of electronic resources and newsletters and develop a broader range of tools that have direct application and provide clearer guidance on policy.

The currently proposed Customer Satisfaction and Impact (CSI) Survey is a reinstatement of the 2010 study with changes to the instrument and data collection methods to account for new products and technologies that did not exist in 2010. It is an effort by the agency to obtain current estimates of consumer use/benefit from NIOSH communication products as a whole, as well as to determine the adequacy of the agency's circulation/delivery practices in light of changing distribution approaches and technologies. The CSI will account for changes in NIOSH publications, digital product formats, and new dissemination channels emerging since the last collection of survey data. As offered with many NIOSH publications, the CSI will also solicit more audience-based information that reflects the new media environment. Such expansions will yield findings that show how well customer service practices at NIOSH have followed the 2003 and 2010 recommendations, as well as provide insights into how users seek and use NIOSH information in the current digital environment.

NIOSH will direct the survey to members of the following occupational safety and health organizations: American Industrial Hygiene Association (AIHA), American College of Occupational and Environmental Medicine (ACOEM), American Association of Occupational Health Nurses (AAOHN), American Society of Safety Engineers (ASSE), American Insurance Association (AIA), Insurance Loss Control Association (ILCA) and National Fire Protection Association (NFPA). NIOSH will randomly sample within each of the five following occupational groups: AIHA, ACOEM, AAOHN, ASSE, and other (includes members of AIA, ILCA, and NFPA). The annual number of respondents is 1500. Each participant will complete one of the four data collection instruments, depending on whether they are identified as an “intermediary” or “employer” and whether they complete the full or short version.

NIOSH estimates that it will take 312 total burden hours to complete information collections, compared to 205 burden hours estimated for the 2010 CSS. There are no costs to the respondents other than their time.

Estimated Annualized Burden Hours
Type of respondent | Form name | Number of respondents | Number responses per respondent | Average burden per response (in hours) | Total burden hours
AIHA, AAOHN, ACOEM, ASSE, and Other members | NIOSH Customer Satisfaction Survey—full version, intermediary | 375 | 1 | 20/60 | 125
AIHA, AAOHN, ACOEM, ASSE, and Other members | NIOSH Customer Satisfaction Survey—short version, intermediary | 375 | 1 | 5/60 | 31
AIHA, AAOHN, ACOEM, ASSE, and Other members | NIOSH Customer Satisfaction Survey—full version, employer | 375 | 1 | 20/60 | 125
AIHA, AAOHN, ACOEM, ASSE, and Other members | NIOSH Customer Satisfaction Survey—short version, employer | 375 | 1 | 5/60 | 31

Leroy A. Richardson,
Chief, Information Collection Review Office, Office of Scientific Integrity, Office of the Associate Director for Science, Office of the Director, Centers for Disease Control and Prevention.

[FR Doc. 2017-25493 Filed 11-24-17; 8:45 am]

BILLING CODE 4163-18-P